DEPARTMENT OF LABOR

Employment and Training Administration

[TA-W-70,678]

Quality Metal Coatings, Inc., 122 Access Road, P.O. Box 427, Saint Mary's, PA; Notice of Termination of Investigation

Pursuant to Section 223 of the Trade Act of 1974, as amended, an investigation was initiated on May 28, 2009 in response to a worker petition filed by a company official on behalf of workers of Quality Metal Coatings, Inc., Saint Mary's, Pennsylvania.

The petitioning group of workers is covered by an earlier petition (TA-W-70,639) filed on May 27, 2009 that is the subject of an ongoing investigation for which a determination has not yet been issued. Consequently, further investigation in this case would serve no purpose, and the investigation under this petition has been terminated.

Signed at Washington, DC, this 9th day of June 2009.
Richard Church,
Certifying Officer, Division of Trade Adjustment Assistance.

[FR Doc. E9-15758 Filed 7-2-09; 8:45 am]

BILLING CODE 4510-FN-P